Proclamation 10649 of October 6, 2023

Indigenous Peoples' Day, 2023

By the President of the United States of America

A Proclamation

On Indigenous Peoples' Day, we honor the perseverance and courage of Indigenous peoples, show our gratitude for the myriad contributions they have made to our world, and renew our commitment to respect Tribal sovereignty and self-determination.

The story of America's Indigenous peoples is a story of their resilience and survival; of their persistent commitment to their right to self-governance; and of their determination to preserve cultures, identities, and ways of life. Long before European explorers sailed to this continent, Native American and Alaska Native Nations made this land their home, some for thousands of years before the United States was founded. They built many Nations that created powerful, prosperous, and diverse cultures, and they developed knowledge and practices that still benefit us today.

But throughout our Nation's history, Indigenous peoples have faced violence and devastation that has tested their limits. For generations, it was the shameful policy of our Nation to remove Indigenous peoples from their homelands; force them to assimilate; and ban them from speaking their own languages, passing down ancient traditions, and performing sacred ceremonies. Countless lives were lost, precious lands were taken, and their way of life was forever changed. In spite of unimaginable loss and seemingly insurmountable odds, Indigenous peoples have persisted. They survived. And they continue to be an integral part of the fabric of the United States.

Today, Indigenous peoples are a beacon of resilience, strength, and perseverance as well as a source of incredible contributions. Indigenous peoples and Tribal Nations continue to practice their cultures, remember their heritages, and pass down their histories from generation to generation. They steward this country's lands and waters and grow crops that feed all of us. They serve in the United States military at a higher rate than any other ethnic group. They challenge all of us to celebrate the good, confront the bad, and tell the whole truth of our history. And as innovators, educators, engineers, scientists, artists, and leaders in every sector of society, Indigenous peoples contribute to our shared prosperity. Their diverse cultures and communities today are a testament to the unshakable and unbreakable commitment of many generations to preserve their cultures, identities, and rights to self-governance. That is why, despite centuries of devastation and turmoil, Tribal Nations continue to thrive and lead in countless ways.

When I came into office, I was determined to usher in a new era in the relationship between the Federal Government and Tribal Nations and to honor the solemn promises the United States made to fulfill our trust and treaty obligations to Tribal Nations. That work began by appointing Native Americans to lead on the frontlines of my Administration—from the first Native American Secretary of the Interior Deb Haaland and dozens of Senate-confirmed Native American officials to the over 80 Native American appointees serving across my Administration and in the Federal courts. I restored the White House Council on Native American Affairs to improve interagency coordination and decision-making as well as the White House Tribal Nations Summit to bring together key members of my Administration and the leaders of hundreds of Tribal Nations.

Last year, I signed a new Presidential Memorandum that creates uniform standards for consultation between the Federal Government and Tribal Nations. And together, we are making historic investments in Indian Country. That includes $32 billion from the American Rescue Plan, the largest one-time direct investment in Indian Country in American history; more than $13 billion to rebuild infrastructure, the single largest investment in Indian Country infrastructure in history; and the biggest investment ever to combat the existential threat of climate change, including $700 million dedicated to climate change response in Native communities.

We are also working to improve public health and safety for Native Americans. That is why I signed an Executive Order that helps us respond more effectively to the epidemic of missing and murdered Indigenous peoples. And when we reauthorized the Violence Against Women Act last year, I was proud to include historic provisions that reaffirm Tribal sovereignty and restore Tribal jurisdiction. I have also requested a $9.1 billion infusion for Indian Health Services and asked the Congress to make that funding a mandatory part of the Federal budget for the first time in our history.

My Administration will also continue using all the authority available to it, including the Antiquities Act, to protect sacred Tribal lands. We have already restored protections for Bears Ears and Grand Staircase-Escalante in Utah and the Northeast Canyons and Seamounts National Monument in New England. I have declared new national monuments at the Camp Hale-Continental Divide in Colorado, Avi Kwa Ame in Nevada, and Baaj Nwaavjo I'tah Kukveni in Arizona to protect lands that are sacred to so many Tribes. My Administration has also signed at least 20 new co-stewardship agreements with Tribes, and we are working on many more.

As we celebrate Indigenous Peoples' Day, may we renew the enduring soul of our Nation-to-Nation relationships—a spirit of friendship, stewardship, and respect.

NOW, THEREFORE, I, JOSEPH R. BIDEN JR., President of the United States of America, by virtue of the authority vested in me by the Constitution and the laws of the United States, do hereby proclaim October 9, 2023, as Indigenous Peoples' Day. I call upon the people of the United States to observe this day with appropriate ceremonies and activities. I also direct that the flag of the United States be displayed on all public buildings on the appointed day in honor of our diverse history and the Indigenous peoples who contribute to shaping this Nation.

IN WITNESS WHEREOF, I have hereunto set my hand this sixth day of October, in the year of our Lord two thousand twenty-three, and of the Independence of the United States of America the two hundred and forty-eighth.

[FR Doc. 2023-22667

Filed 10-11-23; 8:45 am]

Billing code 3395-F4-P